DEPARTMENT OF HEALTH AND HUMAN SERVICES

Agency for Healthcare Research and Quality

Request for Quality Measures for Medicaid Home and Community-Based Services

AGENCY: Agency for Healthcare Research and Quality (AHRQ), DHHS.

ACTION: Notice of request for measures.

SUMMARY: The Agency for Healthcare Research and Quality (AHRQ) is soliciting the submission of survey instruments and items that could be used to measure the quality of Medicaid home and community-based service (HCBS) programs. Specifically, AHRQ is interested in metrics related to assessing the performance of such programs, client functional outcomes and client experience of, and satisfaction with, Medicaid HCBS services and supports. This initiative is in response to the mandate within the Deficit Reduction Act (DRA) of 2005, Public Law 109-171, Section 6086(b) that AHRQ develop such measures, in consultation with relevant stakeholders. In preparation for this task, AHRQ is conducting an environmental scan of existing tools that could be adapted or used for assessing the quality of Medicaid HCBS services and supports.

Based on the agency's initial methodological work, there are several quality domains the resulting measure set could assess, including: timeliness of determining need and providing services and supports, person-centeredness, safety, equity, efficiency and, effectiveness of services and supports, qualifications of providers, client health and welfare, program administrative oversight, access, unmet need among current program participants, and coordination of long-term care services with other service providers. For example, relevant measures might include items from a consumer survey that ask about receipt of services or experience with select providers, or metrics that use program administrative data to determine if providers meet program qualifications or if assessments are done on a timely basis.

DATES: Please submit data collection instruments and supporting information about their development and/or use no later than 30 days after publication of this notice. AHRQ will not respond individually to submitters, but will consider all submitted items and instruments and publicly report the results of the review of the submission in an aggregated form.

ADDRESSES: Submission should include a brief cover letter, a copy of the instrument or items for consideration and supporting information (e.g., a users' guide, citation(s) or copies of supporting article(s)) as specified under the Submission Criteria below.

Submissions may be in the form of a letter or e-mail, preferably with an electronic file(s) as an e-mail attachment. Responses to this request should be submitted to: D.E.B. Potter, Center for Financing, Access and Cost Trends; Agency for Healthcare Research and Quality, 540 Gaither Road, Suite 500, Rockville, MD 20850, Phone: (301) 427-1564, Fax: (301) 427-1276; E-mail: D.E.B.Potter@ahrq.hhs.gov.

To facilitate handling of submissions, please include full information about the instrument developer and/or a designated contact.

• Name

• Title

• Organization

• Mailing address

• Telephone number

• Fax number

• E-mail address

Also, please submit a copy of the instrument or items for consideration, and evidence that it meets the submission criteria below. It is requested (but not required) that citation of a peer-reviewed journal article pertaining to the instrument, to include the title of the article, author(s), publication year, journal name, volume, issue, and page numbers where article appears be included.

Submitters must also provide a statement of willingness to grant to AHRQ the right to use and authorize others to use submitted measures and their documentation as part of any future instrument or measure set that may result from developing the statutorily-mandated Medicaid HCBS measure set. Electronic submissions are encouraged.

FOR FURTHER INFORMATION CONTACT: D.E.B. Potter at the address above.

SUPPLEMENTARY INFORMATION

Submission Criteria

Items and instruments submitted must focus on evaluating the performance of home and community-based services, client experience of, and satisfaction with, these home and community-based services and supports, as well as related client functional outcomes. Such services are defined broadly to include at a minimum the array of services included as HCBS under Section 1915(b), (c), or (b) and (c) of the Social Security Act (the Act), HCBS as a State plan option under Section 1915(i), as well as self-directed personal assistance services under Section 1915(j), and HCBS under Section 1115 of the Act, and HCBS demonstrations, as authorized under Section 6071 of the Deficit Reduction Act of 2005. For the purpose of this call for measures, the listed services are interpreted broadly to include Medicaid home health care services, Medicaid personal care services, and Medicaid targeted case management services.

Submitted materials should be designed to measure (i.e., quantify) program performance, client functional outcomes (including social role functioning), and/or client experience related to any of the following areas: The timeliness of determining need and providing services and supports, person-centeredness, safety, equity, efficiency and effectiveness of services and supports, qualifications of providers, client health and welfare, program administrative oversight, access, unmet need among current program participants, and coordination of long-term care services with other service providers.

Measures submitted must be relevant or readily adaptable to collection of information on the Medicaid HCBS service experience of people with chronic disabilities, including the following populations:

• Physically- and/or cognitively-impaired elders, including those with dementia;

• Adults or children with intellectual or developmental disabilities;

• Children whose physical, intellectual and/or mental health disabilities significantly impair their ability to participate in age-appropriate activities (e.g., schooling and play), including children with special health care needs;

• Adults with severe and persistent mental illness;

• Adults with acquired brain injuries; and,

• Adults with physical disabilities and/or chronic conditions (such as HIV/AIDS) that place them at risk of institutional care.

Unless such measures can be adapted to HCBS, measures related exclusively to institutional services, specifically those provided in a skilled nursing facility, nursing home, State hospital, or intermediate care facility for the mentally-retarded (ICF/MR), will not be considered, although those that apply to alternative residential settings eligible for Medicaid HCBS funding, such as small group homes and assisted living facilities will be. Measures specific to the process of applying for Medicaid HCBS services (e.g., waiting lists) are also within the scope of this request. In addition, measures should be designed to quantify the experience of current Medicaid HCBS service recipients; including caregivers who receive such services directly (e.g., respite care or family therapy). Measures related to non-service recipients, including measures of staff satisfaction (including family caregivers as secondary recipients—as distinguished from direct recipients) are considered to be outside the scope of this effort. For a more detailed list of the home and community based services, see the SUPPLEMENTARY INFORMATION section below entitled “Types of Home and Community-Based Services”:

AHRQ is particularly interested in soliciting information from three types of submitters:

1. Organizations (or persons) who use (or contract for the use of) another organization's survey (or survey item(s)) and the survey/items used are applicable to (or could be adapted to) HCBS.

2. Organizations (or persons) who developed a survey (or survey item(s)) and the survey/items are applicable to (or could be adapted to) HCBS.

3. Organizations (or persons) who use another organization's survey but have modified the original survey (added items to, taken items away or changed the wording) and the resulting hybrid survey is applicable to (or could be adapted to) HCBS.

Additional Submission Instructions

Submitter Type 1

Each submission should include the following information:

• Name of the measure(s)/instrument(s)/survey(s) used by (or contracted for by) your organization

• Brief description of the measure(s)/instrument(s)/survey(s)

• Population intended for measurement

• Care provider type (e.g., home health agency, consumer directed caregiver, assisted living facility, adult day care provider, skills training counselor)]

• Service setting (e.g., group home, client's home, school, assisted living facility)

• Domain(s) (i.e., content areas)

• Language(s) the measure(s)/survey(s) (e.g., number of HCBS programs, program size(s))

• Where the Submitter's organization has used (fielded), and/or is currently using, the measure(s)/instrument(s)/survey(s) (e.g., number of HCBS programs, program size(s))

Submission of copies of existing report formats developed by the Agency using the survey to disclose findings to consumers and providers is desirable, but not required. Additionally, information about existing database(s) (particularly at the state level) for collecting results gathered using the instrument(s) or items submitted is helpful, but not required for submission.

A partial response by a Submitter Type 1 could be “* * * our Agency uses the National Core Indicator's (NCI) Child Family Survey (Phase VII version) for our State's 1915(c) waiver for children with special health care needs * * * for our HCBS program for elders with Alzheimer's we use the Participant Experience Survey (PES) Elder/Disabled Version (Version 1) * * *”

Submitter Type 2

Information about the instrument that you and/or your organization developed may be provided (in part) through submission of peer-reviewed journal articles). Each submission should include the following information.

• Name of the measure(s)/instrument(s)/survey(s) developed

• Description of the measure(s)/instrument(s)/surveys(s)

• Population intended for measurement

• Care provider type(s) (e.g., home health agency, consumer directed caregiver, assisted living facility, adult day care)

• Service setting (e.g., group home, client's home, school, assisted living facility)

• Copy of the relevant measure(s)/instrument(s)/survey)s) (e.g., individual items and response categories)

• Domain(s) (i.e., content areas)

• Language(s) the measure(s)/instrument(s)/survey(s) is available in

• Reliability of the measure(s)/instrument(s)/survey(s) (e.g., internal consistency, test-retest, etc).

• Validity of the measure(s)/instrument(s)/survey(s) (e.g., content, construct, criterion-related)

• Response rate(s) obtained when measure(s)/instrument(s)/survey(s) is used to measure on the intended population

• Methods and results of any cognitive testing associated with the measure(s), instrument(s) and/or survey(s)

• Methods and results of any field-testing associate with the measure(s), instrument(s) and/or survey(s)

• Data collection protocols (including mode and respondents)

• Description of sampling strategies used for data collection

• Where the Submitter's organization has used (fielded), and/or is currently using, the measure(s)/instrument(s)/survey(s) (e.g., number of HCBS programs, program size(s))

• Information about any professional or organizations endorsements associated with the measure(s)/instrument(s)/survey(s)

Submission of copies of existing report formats developed to disclose findings to consumers and providers is desirable, but not required. Additionally, information about existing database(s) collecting results gathered using the instrument(s) or items submitted is helpful, but not required for submission. Information about the instrument may be provided through submission of peer-reviewed journal article, if applicable or through the best evidence available at the time of submission.

In submitting measures, submitters agree to relinquish ownership of any items developed by the submitter/organization that are selected to be pat of the measure set(s) developed by AHRQ for public use (beginning in 2008 as required by Section 6086(b) of the DRA). However, item ownership will be protected during the initial measure can, and during any subsequent measure development efforts AHRQ might undertake.

Submitter Type 3

Information about the original survey measures and the nature of any survey measure modifications (including new, changed or deleted items) is requested for submission.

For the measures/items based directly on an existing survey/measure(s) (and without any changes to the items), the information described under Submission Submitter Type 1 is requested along with copies of the relevant measures that are actually used (e.g., individual items and response categories).

In addition to the original measures information (requested in the previously paragraph), information about the modified measures/items is requested. Modifications may include question wording changes, the addition of new items/measures, and/or the deletion or original survey items. For the modified items, the following is requested:

For measures/items based directly on the original survey items, but modified with question wording changes, information (if available) described under Submission Submitter Type 2 is requested for modified items. The reason(s) for question wording change(s) is also requested, but not required. At a minimum, a copy of the modified measures, how the measures are used and some information about how the measures were developed is required.

For new items added to an existing survey, information described under Submission Submitter Type 2 is requested. Also requested, but not required, is (are) the reason(s) for the addition of the new items. An example of the latter might be along the lines of “* * * for our HCBS program for elders with Alzheimer's we use the PES Elder/Disabled Version (Version 1) but have also added a module to capture information about medication management/administration for clients in a residential settings.* * *” At a minimum, a copy of the modified measures, now the measures are used and some information about how the measures were developed is required.

In situations where the modifications to the original survey are simply a deletion(s) of original survey items (and with new items added) a description on of what items were deleted and why is also requested. An example of the latter might be “* * * for our HCBS program for elders we use the ABC Survey but drop questions 34-42 at the Agency does not use this information.”

In submitting modified measures, submitters agree to relinquish ownership of any items developed by the submitter/organization and that are selected for use in the measure set(s) developed and adopted by AHRQ (beginning in 2008 as required by Section 6086(b) of the DRA). However, item ownership will be protected during the initial measure scan, and during any subsequent measure development efforts AHRQ might undertake.

Submitters Types 1, 2 and 3

It is not necessary to submit any actual data generated from using the survey instruments.

Types of Home and Community-Based Services

Both the type and extent of home and community-based services provided under Medicaid can vary from program to program. Below is a partial list of the broad range of services that have been provided by States under their Medicaid HCBS programs; States may provide additional services.

• 24 Hour Supervision/Monitoring

• Activities Therapy

• Adaptive Health and Wellness Services

• Adult Companion Services

• Adult Day Care

• Adult Day Health

• Adult Foster Care

• Adult Residential Care

• Alternative Living/Alternative Care Facility

• Assisted Living

• Assistive Technology

• Assistive Technology Evaluation

• Assistive Technology Repairs

• Attendant Care

• Attendant Care—Rent/Food for Unrelated Live-In Caretaker

• Augmentative Communication

• Behavior Management and Consultation

• Bereavement Counseling

• Case Management

• Case Management Aide

• Chore/Home Maintenance

• Clinic Services

• Clinical Supports

• Coaching/Cueing

• Cognitive/Behavior Services

• Cognitive Rehabilitation

• Community Access

• Community Connection

• Community Integration Training

• Community Membership

• Community Specialist

• Community Transition Services

• Companion Services

• Congregate Meals

• Consolidated Developmental Services

• Consultative Clinical and Therapeutic Services

• Consumer/Family/Caregiver Training

• Counseling

• Crisis Intervention Services/Support

• Day Habilitation

• Day Program

• Dental

• Developmental Day Care

• Early Intervention

• Educational Services Habilitation

• Electronic Home Response

• Emergency Move

• Environmental Adaptations/Home Modifications

• Environmental Engineering

• Escort/Outings

• Exercise Therapy

• Family Counseling

• Financial Counseling and Training

• Financial Risk Reduction

• Fiscal/Employer Agent/Management Services

• Group Homes

• Habilitation

• Home Accessibility Adaptations

• Home-Based Supportive Care

• Home Delivered Meals

• Home Health Aide

• Home Health Care

• Home Maintenance/Repair

• Homemaker Services

• Hospice

• Housing Access Coordination

• Housing Start-Up

• Independent Living Provider

• Independent Living Skills Training

• Individual Directed Goods and Services

• Integrated Therapeutic Network

• Interdisciplinary Team

• Life Skills Training

• Live-in Caregiver

• Meal Services

• Medical Equipment/Supplies

• Medical Nutritional Support

• Medically-Related Direct Therapies

• Medication Administration

• Medication Management

• Mental Health Day Treatment Services

• Mental Illness/Clinic

• Mental Illness/Day Treatment/Partial Hospitalization

• Mental Illness/Psychosocial Rehabilitation

• Money Management

• Moving Assistance

• Night Supervision

• Non-Legend/Non-Formulary Drugs

• Non-Medical Transportation

• Nursing Home Diversion Program

• Nutrition Therapy

• Nutritional Counseling/Assistance

• Nutritional Risk

• Nutritional Supplements

• Occupational Therapy

• Optometry Services

• Over-the-Counter Drugs

• Pediatric Community Transitional Home Services

• Periodic Nursing Evaluations

• Person Centered Planning

• Personal Adjustment Counseling

• Personal Agent

• Personal Care

• Personal Care Assistance

• Personal Care Coordination

• Personal Care—Rent/Food for Unrelated Live-In Caretaker

• Personalized Emergency Response Systems

• Phone Reassurance Monitoring

• Physical Risk Reduction

• Physical Therapy

• Physical Therapy—Extended State Plan Services

• Physician Services

• Podiatry Services

• Prescribed Drugs

• Prescription Drug Co-Pay

• Preventative/Consultative

• Prevocational Services Habilitation

• Private Duty Nursing

• Professional Care Assistant

• Professional Services

• Protective Services

• Psychiatrist Services

• Psychologist Services

• Psychosocial Counseling

• Psychosocial Nutrition

• Psychosocial Rehabilitation

• Rehabilitation Engineering

• Renal Dialysis

• Residential Care

• Residential Habilitation

• Respiratory Therapy

• Respite Care

• Restorative Assistance

• Retainer Payment for Personal Caregivers

• Shared Nursing

• Skill Building

• Skilled Nursing

• Socialization/Recreation

• Social Reassurance Therapeutic Counseling

• Social Work Services

• Special Therapeutic Services

• Specialized Child Care

• Specialized Consultation Services

• Specialized Medical Equipment and Supplies

• Specialized Psychiatric Services

• Specialized Therapies

• Speech, Hearing, and Language

• Staff/Family Consultation Training

• Subsidized Housing

• Substance Abuse Treatment/Counseling

• Support Brokerage

• Support Coordination

• Support Services

• Supported Employment Habilitation

• Supported Living

• Therapeutic Counseling

• Therapeutic Living

• Therapeutic Management

• Therapeutic Massage

• Therapeutic Resources

• Therapeutic Social and Recreational Program

• Therapeutic Supplies

• Training and Counseling Services for Unpaid Caregivers

• Transitional Case Management

• Transitional Living

• Transportation

• Vehicle Modifications

• Visual/Mobility Therapy

• Wandering Alarm System

• Wellness Monitoring

• Wrap-Around Services

• Extended State Plan Services:

○ Home health care services

○ Physical therapy

○ Occupational therapy

○ Speech, hearing and language services

○ Prescribed drugs, except drugs furnished to participants who are eligible for Medicare Part D benefits

○ Dental services

For additional information on HCBS service, please refer to Appendix C: Participant Services (pages 99 to 162) of the Application for a section 1915(c) Home and Community-Based Waiver [Version 3.4] Instructions, Technical Guide and Review Criteria Release Date: November 2006, Disabled and Elderly Health Programs Group, Center for Medicaid and State Operations, Centers for Medicare & Medicaid Services, Department of Health and Human Services, available at: http://www.cms.hhs.gov/HCBS/02_QualityToolkit.asp#TopOfPage.

Dated: May 27, 2007.
Carolyn M. Clancy,
Director.

[FR Doc. 07-2732 Filed 6-1-07; 8:45 am]

BILLING CODE 4160-90-M